DEPARTMENT OF HOMELAND SECURITY

U.S. Customs and Border Protection

U.S. Customs and Border Protection 2019 Trade Symposium

AGENCY: U.S. Customs and Border Protection (CBP), Department of Homeland Security (DHS).

ACTION: Notice of Trade Symposium.

SUMMARY: This document announces that CBP will convene the 2019 Trade Symposium in Chicago, IL, on Tuesday, July 23, 2019, and Wednesday, July 24, 2019. The 2019 Trade Symposium will feature agency personnel, members of the trade community and other government agencies in panel discussions on the agency's role in international trade initiatives and programs. Members of the international trade and transportation communities and other interested parties are encouraged to attend.

DATES: Tuesday, July 23, 2019 (opening remarks and general sessions, 8:00 a.m.-5:00 p.m. EDT), and Wednesday, July 24, 2019 (CBP leadership town hall and breakout sessions, 8:00 a.m.-5:00 p.m. EDT).

ADDRESSES: The 2019 Trade Symposium will be held at the Marriott Marquis at 2121 South Prairie Ave, Chicago, IL 60616.

Registration: Registration will be open from 12:00 p.m. EDT on June 13, 2019 through 4:00 p.m. EDT on July 9, 2019. All registrations must be made online at the CBP website (http://www.cbp.gov/trade/stakeholder-engagement/trade-symposium) and will be confirmed with payment by credit card only. The registration fee is $184.00 per person. Interested parties are requested to register immediately, as space is limited. Members of the public who are pre-registered to attend and later need to cancel, may do so by sending an email to tradeevents@cbp.dhs.gov. Please include your name and confirmation number with your cancellation request. Cancellation requests made after July 15, 2019 will not receive a refund.

FOR FURTHER INFORMATION CONTACT: Daisy Castro, Office of Trade Relations (OTR) at (202) 344-1440, or at tradeevents@cbp.dhs.gov. The most current 2019 Trade Symposium information can be found at http://www.cbp.gov/trade/stakeholder-engagement/trade-symposium.

For information on facilities or services for individuals with disabilities or to request special assistance at the meeting, contact OTR at (202) 344-1440, or at tradeevents@cbp.dhs.gov as soon as possible.

SUPPLEMENTARY INFORMATION: This document announces that CBP will convene the 2019 Trade Symposium in Chicago, IL, on Tuesday, July 23, 2019, and Wednesday, July 24, 2019. The format of the 2019 Trade Symposium will be general sessions on the first day and breakout sessions on the second day. The 2019 Trade Symposium will feature panels composed of agency personnel, members of the trade community and other government agencies. The panel discussions will address trade remedies, e-commerce, the status of affairs in the Northern Triangle (El Salvador, Guatemala, Honduras), the 21st Century Customs Framework, forced labor issues, and other topics. In addition, there will be a working session to obtain feedback on export modernization and one-on-one sessions with the Centers of Excellence and Expertise. The 2019 Trade Symposium agenda can be found on the CBP website: http://www.cbp.gov/trade/stakeholder-engagement/trade-symposium.

Hotel accommodations have been made at the Marriott Marquis at 2121 South Prairie Ave, Chicago, IL 60616. Hotel room block reservation information can be found on the CBP website (http://www.cbp.gov/trade/stakeholder-engagement/trade-symposium).

Dated: June 21, 2019.
Bradley F. Hayes,
Executive Director, Office of Trade Relations.

[FR Doc. 2019-13634 Filed 6-25-19; 8:45 am]

BILLING CODE 9111-14-P